DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Miner's Claim for Benefits Under the Black Lung Benefits Act; Employment History (CM-911 and CM-911a). A copy of the proposed information collection request can be obtained by contacting the office listed below in the addresses section of this notice.

DATES: Written comments must be submitted to the office listed in the addresses section below on or before May 17, 2005.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION:

I. Background

The Black Lung Act of 1977, as amended, 30 U.S.C. 901 et seq., provides for the payment of benefits to a coal miner who is totally disabled due to pneumoconiosis (black lung disease) and to certain survivors of the miner who died due to pneumoconiosis. A miner who applies for black lung benefits must complete the CM-911 (application form). The completed CM-911 gives basic identifying information about the applicant and is the beginning of the development of the black lung claim. An applicant filing for black lungs benefits must also complete a CM-911a at the same time the black lung application form is submitted. The CM-911a when completed is formatted to render a complete history of employment and helps to establish if the miner currently or formerly worked in the nation's coal mines. The Black Lung Benefits Act as amended, 30 U.S.C. et seq. and 20 CFR 725.304a, necessitates the collection of this information. This information collection is currently approved for use through August 31, 2005.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to determine eligibility for black lung benefits.

Type of Review: Extension.

Agency: Employment Standards Administration.

Title: Miner's Claim for Benefits under the Black Lung Benefits Act; Employment History.

OMB Number: 1215-0052.

Agency Number: CM-911 and CM-911a.

Affected Public: Individuals or households; business or other for profit.

Total Respondents: 9,000.

Total Annual responses: 9,000.

Estimated Total Burden Hours: 6,333.

Frequency: On occasion.

Total Burden Cost (capital/startup): $0.

Total Burden Cost (operating/maintenance): $1,000.00.

Forms | Respondents/responses | Time per response (minutes) | Burden hours
CM-911 | 4,000 | 45 | 3,000
CM-911a | 5,000 | 40 | 3,333
Total | 9,000 |  | 6,333

Comments submitted in response to this notice will be summarized and/or included in the request for Office of Management and Budget approval of the information collection request; they will also become a matter of public record.

Dated: March 11, 2005.
Bruce Bohanon,
Chief, Branch of Management Review and Internal Control, Division of Financial Management, Office of Management, Administration and Planning, Employment Standards Administration.

[FR Doc. 05-5356 Filed 3-17-05; 8:45 am]

BILLING CODE 4510-CK-P